DEPARTMENT OF TRANSPORTATION

Federal Aviation Administration

Notice of Passenger Facility Charge (PFC) Approvals and Disapprovals

AGENCY: Federal Aviation Administration (FAA), DOT.

ACTION: Monthly Notice of PFC Approvals and Disapprovals. In October 2012, there were seven applications approved. This notice also includes information on four applications, one approved in July 2012 and the other three approved in September 2012, inadvertently left off the July 2012 and September 2012 notices, respectively. Additionally, seven approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

PUBLIC AGENCY: Sanford Airport Authority, Sanford, Florida.

APPLICATION NUMBER: 12-03-C-00-SFB.

APPLICATION TYPE: Impose and use a PFC.

PFC LEVEL: $4.00.

TOTAL PFC REVENUE APPROVED IN THIS DECISION: $29,837,167.

EARLIEST CHARGE EFFECTIVE DATE: December 1, 2012.

ESTIMATED CHARGE EXPIRATION DATE: November 1, 2022.

CLASS OF AIR CARRIERS NOT REQUIRED TO COLLECT PFC'S: None.

BRIEF DESCRIPTION OF PROJECTS APPROVED FOR COLLECTION AND USE:

Reconstruction of taxiways L, R, C, and B4.

Rehabilitate apron (international ramp).

Acquire land for noise compatibility phase II.

Acquire aircraft rescue and firefighting vehicles.

Taxiway B extension.

Miscellaneous runway lighting and signage improvements.

Rehabilitate terminal building roof.

Construct apron—north side ramp.

Reconstruction of runway 9C/27C.

Expand apron—east terminal ramp.

Acquire land for noise compatibility.

Extend runway 9R/27L (land acquisition).

Extend runway 9R/27L (construction).

Expand apron phase II.

Acquire land for noise mitigation (phase 4).

Rehabilitate runway 9L/27R.

Extend runway 9R/27L (land acquisition—phase II).

PFC administration costs reimbursement.

Add/replace/reconfigure/extend baggage handling systems.

Replace 12 passenger boarding bridges.

DECISION DATE: July 12, 2012.

FOR FURTHER INFORMATION CONTACT: Susan Moore, Orlando Airports District Office, (407) 812-6331.

PUBLIC AGENCY: Hillsborough County Aviation Authority, Tampa, Florida.

APPLICATION NUMBER: 12-09-C-00-TPA.

APPLICATION TYPE: Impose and use a PFC.

PFC LEVEL: $4.50.

TOTAL PFC REVENUE APPROVED IN THIS DECISION: $33,030,276.

EARLIEST CHARGE EFFECTIVE DATE: January 1, 2019.

ESTIMATED CHARGE EXPIRATION DATE: November 1, 2019.

CLASS OF AIR CARRIERS NOT REQUIRED TO COLLECT PFC'S:

Air taxi/commercial operators filing FAA Form 1800-31 and operating at Tampa International Airport (TPA).

DETERMINATION: Approved. Based on information contained in the public agency's application, the FAA has determined that the approved class accounts for less than 1 percent of the total annual enplanements at TPA.

BRIEF DESCRIPTION OF PROJECTS APPROVED FOR COLLECTION AND USE AT A $3.00 PFC LEVEL:

Airside F boarding bridges.

PFC implementation and administration costs.

BRIEF DESCRIPTION OF PROJECT PARTIALLY APPROVED FOR COLLECTION AND USE AT A $4.50 PFC LEVEL:

Airside F additions and renovations.

DETERMINATION: The following elements were determined not to meet the requirements of § 158.15 and, thus, were disapproved: Aircraft “self-docking” system; parking lot re-striping, landscaping, and artwork; build-out of the concession areas and tenant support office areas; relocation of the airline lounge; service elevator; and Wi-Fi system upgrade.

BRIEF DESCRIPTION OF PROJECT PARTIALLY APPROVED FOR COLLECTION AND USE AT A $3.00 PFC LEVEL:

Replace main terminal cooling tower.

DETERMINATION: The redevelopment of the existing cooling tower footprint into a covered parking and charging area for electric maintenance vehicles does not meet the requirements of § 158.15 and, thus, is not approved.

DECISION DATE: September 26, 2012.

FOR FURTHER INFORMATION CONTACT: Susan Moore, Orlando Airports District Office, (407) 812-6331.

PUBLIC AGENCY: Salt Lake City Corporation, Salt Lake City, Utah.

APPLICATION NUMBER: 12-13-C-00-SLC.

APPLICATION TYPE: Impose and use a PFC.

PFC LEVEL: $4.50.

TOTAL PFC REVENUE APPROVED IN THIS DECISION: $115,628,000.

EARLIEST CHARGE EFFECTIVE DATE: April 1, 2013.

ESTIMATED CHARGE EXPIRATION DATE: April 1, 2016.

CLASS OF AIR CARRIERS NOT REQUIRED TO COLLECT PFC'S:

Air taxi/commercial operators filing or required to file FAA Form 1800-31 and operating at Salt Lake City International Airport (SLC).

DETERMINATION: Approved. Based on information contained in the public agency's application, the FAA has determined that the approved class accounts for less than 1 percent of the total annual enplanements at SLC.

BRIEF DESCRIPTION OF PROJECTS APPROVED FOR COLLECTION AND USE AT A $4.50 PFC LEVEL:

End of runway deicing program—phase 1, runway 34R.

Taxiway S pavement reconstruction.

Replace carousel 9 and oversized bag belt TU3.

Terminal redevelopment program—design and associated technical professional services.

BRIEF DESCRIPTION OF PROJECTS APPROVED FOR COLLECTION AND USE AT A $3.00 PFC LEVEL:

Apron mast lighting replacement.

Apron reconstruction—east of spots 3 and 4.

DECISION DATE: September 26, 2012.

FOR FURTHER INFORMATION CONTACT: Jesse Lyman, Denver Airports District Office, (303) 342-1262.

PUBLIC AGENCY: Salt Lake City Corporation, Salt Lake City, Utah.

APPLICATION NUMBER: 12-14-I-00-SLC.

APPLICATION TYPE: Impose a PFC.

PFC LEVEL: $4.50.

TOTAL PFC REVENUE APPROVED IN THIS DECISION: $281,119,000.

EARLIEST CHARGE EFFECTIVE DATE: April 1, 2016.

ESTIMATED CHARGE EXPIRATION DATE: September 1, 2022.

CLASS OF AIR CARRIERS NOT REQUIRED TO COLLECT PFC'S:

Air taxi/commercial operators filing or required to file FAA Form 1800-31 and operating at SLC.

DETERMINATION: Approved. Based on information contained in the public agency's application, the FAA has determined that the approved class accounts for less than 1 percent of the total annual enplanements at SLC.

BRIEF DESCRIPTION OF PROJECT APPROVED FOR COLLECTION AT A $4.50 PFC LEVEL:

Terminal redevelopment program—consolidated terminal building.

DECISION DATE: September 26, 2012.

FOR FURTHER INFORMATION CONTACT: Jesse Lyman, Denver Airports District Office, (303) 342-1262.

PUBLIC AGENCY: County of Chemung, Elmira, New York.

APPLICATION NUMBER: 12-05-C-00-ELM.

APPLICATION TYPE: Impose and use a PFC.

PFC LEVEL: $4.50.

TOTAL PFC REVENUE APPROVED IN THIS DECISION: $77,241.

EARLIEST CHARGE EFFECTIVE DATE: December 1, 2020.

ESTIMATED CHARGE EXPIRATION DATE: February 1, 2021.

CLASS OF AIR CARRIERS NOT REQUIRED TO COLLECT PFC'S:

Nonscheduled/on-demand air carriers filing FAA Form 1800-31.

DETERMINATION: Approved. Based on information contained in the public agency's application, the FAA has determined that the approved class accounts for less than 1 percent of the total annual enplanements at Elmira Corning Regional Airport.

BRIEF DESCRIPTION OF PROJECTS APPROVED FOR COLLECTION AND USE:

PFC program administration.

Design taxiways A, L and B.

BRIEF DESCRIPTION OF PROJECT APPROVED FOR COLLECTION:

Acquire aircraft rescue and firefighting truck.

BRIEF DESCRIPTION OF DISAPPROVED PROJECT:

Acquire multipurpose snow removal equipment.

DETERMINATION: Project does not meet the requirements of § 158.15(b).

DECISION DATE: October 5, 2012.

FOR FURTHER INFORMATION CONTACT: Patricia Henn, Eastern Region Airports Division, (718) 553-3357.

PUBLIC AGENCY: City of Killeen, Texas.

APPLICATION NUMBER: 13-08-C-00-GRK.

APPLICATION TYPE: Impose and use a PFC.

PFC LEVEL: $4.50.

TOTAL PFC REVENUE APPROVED IN THIS DECISION: $1,334,519.

EARLIEST CHARGE EFFECTIVE DATE: April 1, 2013.

ESTIMATED CHARGE EXPIRATION DATE: March 1, 2015.

CLASS OF AIR CARRIERS NOT REQUIRED TO COLLECT PFC'S:

Part 135 charter operators.

DETERMINATION: Approved. Based on information contained in the public agency's application, the FAA has determined that the approved class accounts for less than 1 percent of the total annual enplanements at Killeen/Fort Hood, Robert Gray Airport.

BRIEF DESCRIPTION OF PROJECTS APPROVED FOR COLLECTION AND USE:

Terminal hold rooms and common use space rehabilitation.

Rehabilitate taxiways (B, B-3, C, D, and E).

Terminal hold room and common use area passenger accommodation.

Rehabilitate terminal access road.

Administration fees.

DECISION DATE: October 18, 2012.

FOR FURTHER INFORMATION CONTACT: Steven Cooks, Texas Airports Development Office, (817) 222-5608.

PUBLIC AGENCY: City of Fort Smith, Arkansas.

APPLICATION NUMBER: 12-05-C-00-FSM.

APPLICATION TYPE: Impose and use a PFC.

PFC LEVEL: $4.50.

TOTAL PFC REVENUE APPROVED IN THIS DECISION: $2,412,537.

EARLIEST CHARGE EFFECTIVE DATE: January 1, 2013.

ESTIMATED CHARGE EXPIRATION DATE: December 1, 2019.

CLASSES OF AIR CARRIERS NOT REQUIRED TO COLLECT PFC'S:

(1) Air taxi/commercial operators filing FAA Form 1800-31; and (2) commuter air carriers enplaning non-scheduled passengers filing Department of Transportation Form 41, Schedule T-100.

DETERMINATION: Approved. Based on information contained in the public agency's application, the FAA has determined that each approved class accounts for less than 1 percent of the total annual enplanements at Fort Smith Regional Airport.

BRIEF DESCRIPTION OF PROJECTS APPROVED FOR COLLECTION AND USE:

Airport entry signs to passenger terminal.

Passenger terminal sterile lobby expansion.

Portable pre-conditioned air and ground power unit.

Runway 1/19 pavement rehabilitation and marking.

Perimeter security fence and erosion control.

Runway closure signs.

Wildlife habitat mitigation and drainage improvements.

Wildlife management plan.

Security system upgrade.

Braking action testing equipment.

Replace security vehicles.

Public information systems.

Snow removal equipment.

Reconstruction of taxiway A west phase 2.

Reconstruction of taxiway A west phase 3.

PFC administration.

DECISION DATE: October 22, 2012.

FOR FURTHER INFORMATION CONTACT: Julieann Dwyer, Arkansas/Oklahoma Airports Development Office, (817) 222-5636.

PUBLIC AGENCY: Des Moines Airport Authority, Des Moines, Iowa.

APPLICATION NUMBER: 12-13-C-00-DSM.

APPLICATION TYPE: Impose and use a PFC.

PFC LEVEL: $4.50.

TOTAL PFC REVENUE APPROVED IN THIS DECISION: $3,059,891.

EARLIEST CHARGE EFFECTIVE DATE: October 1, 2019.

ESTIMATED CHARGE EXPIRATION DATE: December 1, 2020.

CLASS OF AIR CARRIERS NOT REQUIRED TO COLLECT PFC'S: Part 135 air taxi/commercial operators.

DETERMINATION: Approved. Based on information contained in the public agency's application, the FAA has determined that the approved class accounts for less than 1 percent of the total annual enplanements at Des Moines International Airport.

BRIEF DESCRIPTION OF PROJECT APPROVED FOR COLLECTION AND USE:

Taxiway D reconstruction.

DECISION DATE: October 23, 2012.

FOR FURTHER INFORMATION CONTACT: Sheila Bridges, Central Region Airports Division, (816) 329-2638.

PUBLIC AGENCY: City of Waterloo, Iowa.

APPLICATION NUMBER: 12-11-C-00-ALO.

APPLICATION TYPE: Impose and use a PFC.

PFC LEVEL: $4.50.

TOTAL PFC REVENUE APPROVED IN THIS DECISION: $275,900.

EARLIEST CHARGE EFFECTIVE DATE: August 1, 2015.

ESTIMATED CHARGE EXPIRATION DATE: August 1, 2019.

CLASS OF AIR CARRIERS NOT REQUIRED TO COLLECT PFC'S: None.

BRIEF DESCRIPTION OF PROJECTS APPROVED FOR COLLECTION AND USE:

Taxiway A east rehabilitation—construction phase.

Taxiway B rehabilitation—construction phase.

DECISION DATE: October 23, 2012.

FOR FURTHER INFORMATION CONTACT: Jim Johnson, Central Region Airports Division, (816) 329-2600.

PUBLIC AGENCY: Monterey Peninsula Airport District, Monterey, California.

APPLICATION NUMBER: 13-18-C-00-MRY.

APPLICATION TYPE: Impose and use a PFC.

PFC LEVEL: $4.50.

TOTAL PFC REVENUE APPROVED IN THIS DECISION: $1,200,000.

EARLIEST CHARGE EFFECTIVE DATE: February 1, 2013.

ESTIMATED CHARGE EXPIRATION DATE: February 1, 2014.

CLASS OF AIR CARRIERS NOT REQUIRED TO COLLECT PFC'S:

Nonscheduled/on-demand air carriers filing FAA Form 1800-31.

DETERMINATION: Approved. Based on information contained in the public agency's application, the FAA has determined that the approved class accounts for less than 1 percent of the total annual enplanements at Monterey Peninsula Airport.

BRIEF DESCRIPTION OF PROJECTS APPROVED FOR COLLECTION AND USE:

Update airport master plan study.

Improve runway 10R/28L safety area—phase III.

Install perimeter fence alarm.

Apron rehabilitation—aircraft rescue and firefighting ramp.

DECISION DATE: October 30, 2012.

FOR FURTHER INFORMATION CONTACT: Neil Kumar, San Francisco Airports District Office, (650) 827-7627.

PUBLIC AGENCY: County of Gunnison, Gunnison, Colorado.

APPLICATION NUMBER: 12-06-C-00-GUC.

APPLICATION TYPE: Impose and use a PFC.

PFC LEVEL: $4.50.

TOTAL PFC REVENUE APPROVED IN THIS DECISION: $452,445.

EARLIEST CHARGE EFFECTIVE DATE: May 1, 2020.

ESTIMATED CHARGE EXPIRATION DATE: January 1, 2023.

CLASS OF AIR CARRIERS NOT REQUIRED TO COLLECT PFC'S:

None.

BRIEF DESCRIPTION OF PROJECTS APPROVED FOR COLLECTION AND USE:

Update wildlife hazard assessment plan.

Rehabilitate terminal building (phase I).

Rehabilitate terminal building (phase II).

Rehabilitate terminal building (phase III).

Rehabilitate terminal building (phase IV).

Rehabilitate runway 6/24.

Rehabilitate taxiway A system.

Rehabilitate general aviation apron areas.

PFC administration.

DECISION DATE: October 30, 2012.

FOR FURTHER INFORMATION CONTACT: Jesse Lyman, Denver Airports District Office, (303) 342-1262.

Amendments to PFC Approvals
Amendment No., City, State | Amendment approved date | Original approved net PFC revenue | Amended approved net PFC revenue | Original estimated charge exp. date | Amended estimated charge exp. date
10-07-C-01-RSW, Fort Myers, FL | 09/27/12 | $51,877,571 | $56,490,299 | 05/01/18 | 10/01/18
07-05-C-01-FSM, Fort Smith, AR | 10/04/12 | 1,250,500 | 1,310,108 | 04/01/13 | 01/01/13
06-05-C-04-MOB, Mobile, AL | 10/12/12 | 4,850,267 | 4,681,541 | 06/01/15 | 05/01/13
12-14-C-01-YKM, Yakima, WA | 10/12/12 | 703,801 | 907,615 | 02/01/14 | 03/01/15
09-07-C-02-GRK, Killeen, TX | 10/18/12 | 2,565,711 | 3,125,711 | 01/01/13 | 04/01/13
* 07-04-C-01-ONT, Ontario, CA | 10/19/12 | 96,648,998 | 96,648,998 | 04/01/13 | 10/01/21
96-03-C-02-SJU, San Juan, PR | 10/23/12 | 68,223,897 | 62,028,587 | 04/01/02 | 04/01/02
NOTES:
The amendment denoted by an asterisk (*) include a change to the PFC level charged from $4.50 per enplaned passenger to $2.00 per enplaned passenger. For Ontario, CA, this change is effective on January 1, 2013.

Issued in Washington, DC on September 4, 2013.
Joe Hebert,
Manager, Financial Analysis and Passenger Facility Charge Branch.

[FR Doc. 2013-22559 Filed 9-16-13; 8:45 am]

BILLING CODE 4910-13-P